DEPARTMENT OF THE TREASURY

Submission for OMB Review; Comment Request

June 9, 2015.

The Department of the Treasury will submit the following information collection request to the Office of Management and Budget (OMB) for review and clearance in accordance with the Paperwork Reduction Act of 1995, Public Law 104-13, on or after the date of publication of this notice.

DATES: Comments should be received on or before July 15, 2015 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

Community Development Financial Institutions (CDFI) Fund

OMB Number: 1559-0021.

Type of Review: Revision of a currently approved collection.

Title: CDFI Program and NACA Program Application.

Abstract: The CDFI Fund provides financial assistance in the form of grants, loans, equity investments and deposits to community development financial institutions providing capital and financial services to underserved markets. The FY 2016 CDFI and NACA Program application introduces an integrated web-based collection tool that will now be used to collect data from CDFI and NACA Program applicants. The new interactive, integrated application reduces the burden on the applicant since it will store previously supplied information, which will reduce data entry in future applications. It is anticipated that this will decrease the amount of time to complete the application from 50 hours to 30 hours per response for the applicants. This revision reflects a decrease in hours due to the new collection tool. Total burden hours requested for this submission is 13,530 (451 applications X 30 hours an application).

Affected Public: Private Sector: Businesses or other for-profits; not-for-profit institutions.

Estimated Total Burden Hours: 13,530.

Robert Dahl,
Treasury PRA Clearance Officer.

[FR Doc. 2015-14448 Filed 6-12-15; 8:45 am]

BILLING CODE 4810-70-P